POSTAL SERVICE

39 CFR Part 20

Express Mail International Service

AGENCY: Postal Service.

ACTION: Final rule.

SUMMARY: On August 7, 2000, the Postal Service announced an interim rule in the Federal Register (65 FR 48171) providing a 5 percent discount off the regular postage for all Express Mail International Service (EMS) shipments paid by an Express Mail Corporate Account (EMCA). The Postal Service hereby gives notice that it is implementing the interim rule on a permanent basis.

EFFECTIVE DATE: October 11, 2000.

ADDRESSES: Written comments should be sent to the Manager, International Products, International Business, U.S. Postal Service, 1735 N Lynn Street, Arlington VA 22209-6026. Copies of all written comments will be available for public inspection between 9 a.m. and 4 p.m., Monday through Friday, in International Business, Second Floor, at that address.

FOR FURTHER INFORMATION CONTACT: Angus MacInnes, (703) 292-3601.

SUPPLEMENTARY INFORMATION: The Postal Service proposed changes in conditions for certain mailing categories to automatically reduce every payment transaction by 5 percent for all EMS purchased at basic published prices and paid through an EMCA.

An EMCA is an advanced deposit account developed for Express Mail that enables customers to deposit funds with the Postal Service for payment of anticipated future Express Mail mailings. Express Mail Corporate Accounts can be used for domestic and international Express Mail. The discount is available only for Express Mail sent internationally. Federal agencies are eligible for the discount. The discount is deducted from the total postage amount on the mailer's monthly account, rather than for each piece.

The 5 percent discount is offered on postage only; it does not apply to pickup fees, any special fees, nor postage for shipments being made under an International Customized Mail agreement.

As required under the Postal Reorganization Act, this change results in conditions of mailing that do not apportion the costs of service, so the overall value of the service to its users is fair and reasonable, and not unduly or unreasonably discriminatory or preferential.

The Postal Service received no comments in response to its proposal published in the Federal Register on August 7, 2000 (65 FR 48171). Accordingly, the Postal Service hereby implements the 5 percent discount and amends the International Mail Manual (IMM), which is incorporated by reference in the Code of Federal Regulations. See 39 CFR 20.1.

List of Subjects in 39 CFR Part 20

Foreign relations, international postal services.

PART 20—[AMENDED]

1. The authority citation for 39 CFR Part 20 continues to read as follows:

Authority: 5 U.S.C. 552(a); 39 U.S.C. 401, 404, 407, 408.

2. Revise the International Mail Manual as set forth below:

2 Conditions for Mailing

210 Express Mail International Service

* * * * *

212 Postage

212.1 Rates

212.11 Country Rates

See the Individual Country Listings for countries that offer Express Mail International Service.

212.12 Express Mail Corporate Account Discount Rates

Express Mail International Service (EMS) rates will be reduced by 5 percent for all payments made through an Express Mail Corporate Account (EMCA) or through the federal agency payment system. The discount applies only to the postage portion of EMS rates. It does not apply to pickup service charges (212.24), additional merchandise insurance coverage fees (211.51), or shipments made under an International Customized Mail agreement.

* * * * *

Stanley F. Mires,
Chief Counsel, Legislative.

[FR Doc. 00-25981 Filed 10-10-00; 8:45 am]

BILLING CODE 7710-12-U